DEPARTMENT OF THE INTERIOR

Geological Survey

Technology Transfer Act of 1986

AGENCY: U.S. Geological Survey.

ACTION: Notice of Proposed Cooperative Research & Development Agreement (CRADA) Negotiations.

SUMMARY: The U.S. Geological Survey (USGS) is contemplating entering into Cooperative Research and Development Agreement (CRADA) with David Chereb Group, Inc. to develop an analytical software tool available on a CD that takes “aggregates” data (“aggregates” refers to crushed stone, sand and gravel, and slag) and provides a means to analyze it in ways useful to the construction industry and governmental planners—including the production of leading economic indicators.

Inquiries: If any other parties are interested in similar activities, please contact Valentin Tepordei, 12201 Sunrise Valley Drive, MS 983, Reston, VA 20192, phone: (703) 648-7728.

SUPPLEMENTARY INFORMATION: This notice is submitted to meet the USGS policy requirements stipulated in Survey Manual Chapter 500.20.

Dated: August 26, 2002.
P. Patrick Leahy,
Associate Director for Geology.

[FR Doc. 02-22179 Filed 8-29-02; 8:45 am]

BILLING CODE 4310-47-M